MILLENNIUM CHALLENGE CORPORATION

[MCC FR 04-11]

Notice of November 8, 2004 Millennium Challenge Corporation Board of Directors Meeting; Sunshine Act Meeting

AGENCY: Millennium Challenge Corporation.

Time and Date: 2-4 p.m., Monday, November 8, 2004.

Place: Department of State, C Street Entrance, Washington, DC 20520.

FOR FURTHER INFORMATION CONTACT: Information on the meeting may be obtained from Joyce B. Lanham at (202) 521-3861.

Status: Meeting will be open to the public from 2 p.m. until conclusion of the administrative session; a closed session will commence immediately following the conclusion of the open session, at approximately 2:20 p.m.

Matters to be Considered: The Board of Directors (the “Board”) of the Millennium Challenge Corporation (“MCC”) will hold a quarterly meeting of the Board to consider the selection of countries that will be eligible for Millennium Challenge Account (“MCA”) assistance in FY2005 under Section 607 of the Millennium Challenge Act of 2003, codified at 22 U.S.C. 7706, and certain administrative matters. The majority of the meeting will be devoted to a discussion of MCA candidate countries, which is expected to involve the consideration of classified information and will be closed to the public. The Board may also consider certain matters related solely to the internal practices of MCC during the closed session. A brief open session that will include a CEO update for the Board on MCC operations will precede the closed session.

Due to security requirements at the meeting location, all individuals wishing to attend the open portion of the meeting are encouraged to arrive at least 20 minutes before the meeting begins and comply with all relevant security requirements of the Department of State. Those planning to attend must notify Joyce Lanham at (202) 521-3861 or via email at lanhamjb@mcc.gov by noon on Wednesday, November 3, 2004, with the following information: full name, telephone number, e-mail address, affiliation/company name, social security number and date of birth. Please bring a photo ID with you on the day of the meeting. Seating for the brief open session will be available on a first come, first served basis.

Dated: October 25, 2004.
Jon A. Dyck,
Vice President and General Counsel, Millennium Challenge Corporation.

[FR Doc. 04-24152 Filed 10-25-04; 2:43 pm]

BILLING CODE 9210-01-P